DEPARTMENT OF HEALTH AND HUMAN SERVICES

Centers for Disease Control and Prevention

[60 Day-09-09AF]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar PhD, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

“Evaluation of Pharmacy Syringe Access Linked to HIV Testing for Injection Drug Users in New York City (Pharm-HIV)”—New—National Center for HIV/AIDS, Viral Hepatitis, STD, and TB Prevention (NCHHSTP). Centers for Disease Control and Prevention (CDC).

Background and Brief Description

HIV continues to be one of the leading causes of illness and death in the US, especially among black and Hispanic communities. For injection drug users (IDU), who are at high risk of acquiring HIV infection, HIV testing may not be readily accessible. In 2001, the New York State Legislature established an Expanded Syringe Access Demonstration Program (ESAP) in New York City which made syringes available through participating pharmacies for injection drug users. ESAP thus helped to reduce the burden of HIV by increasing access to sterile syringe sources. The ESAP allows for regular contact between pharmacists and their injection-drug-using syringe customers, thus paving the way for pharmacies to act as access points to health and social services among IDU customers. The expansion of pharmacy services to include referrals for injection-drug-using syringe customers is based on the successes of ESAP, which provides many services beyond syringe exchange.

This project involves two kinds of studies: testing service models at pharmacies and, interviewing individuals regarding the availability of syringes through pharmacies. For testing service models CDC will collaborate with the New York Academy of Medicine (NYAM) to implement this project for a period of three years.

The NYAM will identify 12 ESAP pharmacies in East Harlem, New York City; ten of which will test a model that refers injection-drug-using syringe customers for HIV testing to local HIV testing sites. Two ESAP pharmacies will evaluate the feasibility of offering and performing HIV counseling and testing in the pharmacy for injection-drug-using syringe customers.

Two types of respondents will provide the individual-level data; forty-eight adult (age ≥18 yrs) pharmacy staff members will be surveyed to learn about pharmacy staff attitudes and behaviors regarding HIV testing and referral. The other respondent group will be 442 adult (age ≥18 yrs) injection-drug-using syringe customers who will complete a brief quantitative interview after HIV referral or HIV testing is offered to them. HIV-seropositive injection-drug-using syringe customers identified during HIV testing will be immediately linked to social and medical services. There is no cost to respondents other than their time.

Estimate of Annualized Burden Table
Types of data collection | Number of respondents | Number of responses per respondent | Average burden per response (in hours) | Total burden (in hours)
Pharmacy telephone screening and enrollment form | 24 | 1 | 10/60 | 4
Pharmacy staff surveys—baseline, every six months x 3, and at end of study. | 48 | 5 | 20/60 | 80
Pharmacy staff brief surveys—monthly except when 6 monthly surveys are completed. | 12 | 19 | 10/60 | 38
Pharmacy daily syringe sales log | 12 | 600 | 5/60 | 600
Injection-drug-using syringe customer surveys | 442 | 1 | 30/60 | 221
Total |  |  |  | 943

Dated: November 7, 2008.
Maryam I. Daneshvar,
Acting Reports Clearance Officer, Centers for Disease Control and Prevention.

[FR Doc. E8-27448 Filed 11-18-08; 8:45 am]

BILLING CODE 4163-18-P